DEPARTMENT OF DEFENSE

Department of the Army

[Docket ID: USA-2014-0022]

Privacy Act of 1974; System of Records

AGENCY: Department of the Army, DoD.

ACTION: Notice to amend a System of Records.

SUMMARY: The Department of the Army proposes to amend a system of records, A0165-1a DACH, entitled “Baptism, Marriage, and Funeral Files” in its inventory of record systems subject to the Privacy Act of 1974, as amended. This is now a closed system; no new records may be added. The system was used to render service to military members, their dependents and authorized civilians.

DATES: Comments will be accepted on or before July 16, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974, (5 U.S.C. 552a), as amended, have been published in the Federal Register and are available from the address in FOR FURTHER INFORMATION CONTACT or at the Defense Privacy and Civil Liberties Office Web site at http://dpclo.defense.gov/.

The proposed changes to the record system being amended are set forth in this notice. The proposed amendment is not within the purview of subsection (r) of the Privacy Act of 1974 (5 U.S.C. 552a), as amended, which requires the submission of a new or altered system report.

Dated: June 10, 2014.
Aaron Siegel,
Alternate OSD Federal Register Liaison Officer, Department of Defense.

A0165-1a DACH

System name:

Baptism, Marriage, and Funeral Files (February 22, 1993, 58 FR 10002).

Changes:

* * * * *

System name:

Closed—Baptism, Marriage, and Funeral Files

* * * * *

Categories of individuals covered by the system:

Delete entry and replace with “This is a closed system—no new records may be added. Any service member, his/her dependent, authorized civilian personnel, or retired service member for whom an Army chaplain performed a baptism, marriage, or funeral.”

* * * * *

Authority for maintenance of the system:

Delete entry and replace with “10 U.S.C. 3547, Duties: Chaplains; Assistance Required of Commanding Officers.”

Purpose(s):

Delete entry and replace with “Records were used to render service to military members, their dependents and authorized civilians.”

* * * * *

Retrievability:

Delete entry and replace with “Records are retrieved by marriage records filed by groom's surname; funeral records by surname of deceased person; baptismal records by the individual's surname.”

Safeguards:

Delete entry and replace with “Records are now stored at the Washington National Records Center and are only released upon request. See “Record Access Procedures” below.”

Retention and disposal:

Delete entry and replace with “Records from 1953 to 1977 are retained for 50 years; this system was discontinued October 1, 1977 after which no information was collected or is retained. Records will remain in legal DoD custody and physically maintained at the Washington National Records Center until January 2027 at which time they will be destroyed IAW their approved records retention.”

* * * * *

Notification procedure:

Delete entry and replace with “Individuals seeking to determine whether information about themselves is contained in this system should address written inquiries to the Office, Chief of Chaplains, Headquarters, Department of the Army, ATTN: DACH-IMW, Washington, DC 20310-2700.

Individual should provide:

• For baptismal records: Full name of person baptized, approximate date, names of parents, name of chaplain, and place of baptism.

• For marriage records: Full name of groom and maiden name of bride, approximate date, installation at which married, and name of chaplain.

• For funeral records: Name of deceased person, year of death, and name of next-of-kin.”

* * * * *

Record source categories:

Delete entry and replace with “Information was received from any service member, his/her dependent, authorized civilian personnel, or retired service member for whom an Army chaplain has performed a baptism, marriage, or funeral.”

* * * * *

[FR Doc. 2014-13890 Filed 6-13-14; 8:45 am]

BILLING CODE 5001-06-P